DEPARTMENT OF ENERGY

Federal Energy Regulatory Commission

[Project No. 13011-003]

Shelbyville Hydro LLC; Notice of Application Tendered for Filing With the Commission and Soliciting Additional Study Requests

Take notice that the following hydroelectric application has been filed with the Commission and is available for public inspection.

a. Type of Application: Major License.

b. Project No.: 13011-003.

c. Date filed: October 28, 2011.

d. Applicant: Shelbyville Hydro LLC (Shelbyville Hydro), a wholly-owned subsidiary of Symbiotics LLC.

e. Name of Project: Lake Shelbyville Dam Hydroelectric Project.

f. Location: On the Kaskaskia River, in Shelby County, Illinois at an existing dam owned and operated by the U.S. Corps of Engineers (Corps). The project would occupy 3.24 acres of federal lands managed by the Corps.

g. Filed Pursuant to: Federal Power Act 16 U.S.C. 791(a)-825(r).

h. Applicant Contact: Mr. Brent L. Smith, Chief Operating Officer, Symbiotics LLC 371 Upper Terrace, Suite 2, Bend, OR 97702; Telephone (541) 330-8779.

i. FERC Contact: Lesley Kordella, (202) 502-6406 or Lesley.Kordella@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 27, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The project would be located at an existing dam owned and operated by the Corps-St. Louis District. The existing Lake Shelbyville Dam was constructed in 1963 for the purposes of flood control, recreation development, water supply, navigation release, and fish and wildlife conservation. In August of 1970, the USACE closed the gates to start the initial filling of the lake. The West Okaw and Kaskaskia rivers were inundated 17 miles upstream of the dam.

The Lake Shelbyville Dam is an earthen embankment with an elevation of 643 feet above mean sea level (MSL). The dam is 3,025 feet long and rises 108 feet above the river bed. The concrete spillway is located at 593 feet MSL and is topped by three Tainter gates that are approximately 45 feet wide by 37 feet high. The two regulating outlet structures release water through the face of the spillway. The impoundment above the Lake Shelbyville Dam, referred to as Lake Shelbyville, varies according to flood control operations controlled by the Corps. Lake Shelbyville has a maximum storage capacity of 684,000 acre-feet. Of the 684,000 acre-feet of storage, 474,000 acre-feet have been designated for flood control.

The average depth of the reservoir is 16 feet and the maximum is 67 feet.

The proposed Lake Shelbyville Project would consist of: (1) A powerhouse located downstream on the western embankment of the spillway; (2) a penstock, which would be connected to the west outlet structure, and extend along the western bank to the powerhouse; (3) a trash rack with 4-inch spacing that would be integrated into the existing intake structure; (4) a new transformer pad located adjacent to the powerhouse; (5) a modified access road that would pass to the west of the powerhouse; (6) a parking lot on the west side of the powerhouse; (7) a 49-foot-long by 105-foot-wide tailrace; (8) 407 feet of 12.47-kilovolt (kV) buried transmission line to connect the project to the existing Shelby Electric Cooperative substation located 900 feet downstream of the dam; (9) three turbine-generator units for a combined installed capacity of 6.8 megawatts; and (10) appurtenant facilities. The projected annual energy generation would be 20.3 gigawatt hours.

The project would operate in a run-of-release mode utilizing releases from Lake Shelbyville as they are dictated by the Corps, with no proposed change to the Corps' facility operation. Power generation would be seasonally variable as flow regimens and pool levels are set forth by the Corps. The project would generate power using flows between 130 cfs (cubic feet per second) to 1,500 cfs. When flows are below 130 cfs, all flows would be passed through the existing outlet structure and the project would then be offline. When flows are greater than 1,500 cfs, excess flow would be passed through the existing outlet structure.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Illinois State Historic Preservation Officer (SHPO), as required by § 106, National Historic Preservation Act, and the regulations of the Advisory Council on Historic Preservation, 36, CFR, at 800.4.

q. Procedural schedule: The application will be processed according to the following preliminary Hydro Licensing Schedule. Revisions to the schedule will be made as appropriate.

Issue Notice of Acceptance or Deficiency Letter | December 2011.
Request Additional Information | January 2012.
Issue Acceptance Letter | March 2012.
Issue Scoping Document 1 for Comments | April 2012.
Comments on Scoping Document 1 | May 2012.
Issue Scoping Document 2 (if necessary) | June 2012.
Issue notice of ready for environmental analysis | July 2012.
Commission issues a single EA | February 2013.

Final amendments to the application must be filed with the Commission no later than 30 days from the issuance date of the notice of ready for environmental analysis.

Dated: November 3, 2011.
Kimberly D. Bose,
Secretary.

[FR Doc. 2011-29246 Filed 11-10-11; 8:45 am]

BILLING CODE 6717-01-P